DEPARTMENT OF LABOR

Employment and Training Administration

[TA-W-56,788]

Pentair, Inc., Wicor, Inc., Water, Spa and Bath Division, Including On-Site Leased Workers of Volt, Personnel Plus and Apple One South El Monte, CA; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and a Negative Determination Regarding Eligibility to Apply for Alternative Trade Adjustment Assistance on April 27, 2005, applicable to workers of Pentair, Inc., Water, Spa and Bath Division, including on-site leased workers of VOLT, Personnel Plus and Apple One, South El Monte, California. The notice was published in the Federal Register on May 6, 2005 (70 FR 25861).

At the request of the State agency, the Department reviewed the certification for workers of the subject firm.

New information shows that Pentair purchased Wicor, Inc. in August 2004 that all workers separated from employment at the subject firm had their wages reported under a separate unemployment insurance (UI) tax account for Wicor, Inc.

Accordingly, the Department is amending the certification to properly reflect this matter.

The intent of the Department's certification is to include all workers of Pentair, Inc., Water, Spa and Bath Division, including on-site leased workers of VOLT, Personnel Plus and Apple One, South El Monte, California who were adversely affected by a shift in production to China and Mexico.

The amended notice applicable to TA-W-56,788 is hereby issued as follows:

All workers of Pentair, Inc., Wicor, Inc., including on-site leased workers of VOLT, Personnel Plus, and Apple One, South El Monte, California, who became totally or partially separated from employment on or after March 21, 2004, through April 27, 2007, are eligible to apply for adjustment assistance under section 223 of the Trade Act of 1974.

I further determine that all workers of Pentair, Inc., Water Spa and Bath Division, including on-site leased workers of VOLT, Personnel Plus and Apple One, South Monte, California, are denied eligibility to apply for alternative trade adjustment assistance under section 246 of the Trade Act of 1974.

Signed at Washington, DC this 12th day of September 2005.
Elliott S. Kushner,
Certifying Officer, Division of Trade Adjustment Assistance.

[FR Doc. 05-18539 Filed 9-16-05; 8:45 am]

BILLING CODE 4510-30-P